DEPARTMENT OF HEALTH AND HUMAN SERVICES

Office of the Secretary

[Document Identifier: HHS-OS-20987-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before April 11, 2014.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-20987-30D for reference.

Information Collection Request Title: Pre-Test of Instruments of Psychosocial Care for the Treatment of Adults with PTSD.

Abstract: ASPE is requesting to pretest a survey that measures quality of psychotherapy for adults with Post Traumatic Stress Disorder (PTSD) in outpatient treatment settings, defined in terms of the concordance with evidence-based strategies. Despite enormous expenditures and remarkable breakthroughs in treatment, there is a clear gap between what is known about effective treatments for individuals diagnosed with Post Traumatic Stress Disorder (PTSD) and what clinicians actually implement in treatment settings. A quality improvement initiative that measures clinicians' use of evidence based treatment and promotes feedback to providers from the consumers' perspective may enhance the adoption of evidence based services. This could ultimately improve the quality of care and consumer health outcomes.

Need and Proposed Use of the Information: Quality measures of the treatment of PTSD in concordance with evidence-based methods do not currently exist and could be used to reduce this gap. ASPE, in partnership with NIMH, has undertaken this project to pretest 3 surveys (a clinician, clinical supervisor, and consumer measure) of the delivery of evidence based psychotherapies to adults with PTSD. The current data collection is scheduled to occur only once, over a 6 month time period in summer 2014 through the winter of 2014 at a total of 6 behavioral health care sites.

Likely Respondents: Respondents are clinicians, clinician's supervisors and consumers.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
Clinician (demographics questionnaire) | 36 | 1 | 5/60 | 3
Clinician Supervisor (demographics questionnaire) | 6 | 1 | 5/60 | 1
Clinician (clinician survey) | 36 | 3 | 10/60 | 18
Clinician Supervisor (survey) | 6 | 18 | 10/60 | 18
Consumer | 108 | 1 | 10/60 | 18
Site Coordinator (Checklist) | 6 | 1 | 30/60 | 3
Site Coordinator (Sampling) | 6 | 1 | 2 | 12
Total |  |  |  | 73

Darius Taylor,
Deputy, Information Collection Clearance Officer.

[FR Doc. 2014-05285 Filed 3-11-14; 8:45 am]

BILLING CODE 4150-05-P